DEPARTMENT OF COMMERCE

International Trade Administration

[A-570-992, A-560-826]

Monosodium Glutamate From the People's Republic of China, and the Republic of Indonesia: Antidumping Duty Orders; and Monosodium Glutamate From the People's Republic of China: Amended Final Determination of Sales at Less Than Fair Value

AGENCY: Enforcement and Compliance, International Trade Administration, Department of Commerce.

SUMMARY: Based on affirmative final determinations by the Department of Commerce (the Department) and the International Trade Commission (the ITC), the Department is issuing antidumping duty (AD) orders on monosodium glutamate (MSG) from the People's Republic of China (the PRC) and the Republic of Indonesia (Indonesia). In addition, the Department is amending its final determination of sales at less than fair value (LTFV) from the PRC to correct certain ministerial errors.

DATES: Effective Date: November 26, 2014.

FOR FURTHER INFORMATION CONTACT: Milton Koch at (202) 482-2584 (the PRC); or Gene Calvert at (202) 482-3586 (Indonesia), AD/CVD Operations, Office VII, Enforcement and Compliance, International Trade Administration, U.S. Department of Commerce, 14th Street and Constitution Avenue NW., Washington, DC 20230.

SUPPLEMENTARY INFORMATION:

Background

In accordance with sections 735(d) and 777(i)(1) of the Tariff Act of 1930, as amended (the Act) and 19 CFR 351.210(c), on September 29, 2014, the Department published affirmative final determinations of sales at LTFV in the AD investigations of MSG from the PRC and Indonesia.¹ On November 10, 2014, the ITC notified the Department of its affirmative determinations that an industry in the United States is materially injured within the meaning of section 735(b)(1)(A)(i) of the Act by reason of LTFV imports of MSG from the PRC and Indonesia.² In addition, the ITC found in its final determination that critical circumstances do not exist with respect to imports of subject merchandise from the PRC that are subject to the Department's final affirmative critical circumstances findings.³

¹ See Monosodium Glutamate From the People's Republic of China: Final Determination of Sales at Less Than Fair Value and the Final Affirmative Determination of Critical Circumstances, 79 FR 58326 (September 29, 2014) (PRC Final Determination), and Monosodium Glutamate From the Republic of Indonesia: Final Determination of Sales at Less Than Fair Value, 79 FR 58329 (September 29, 2014) (Indonesia Final Determination).

² See Monosodium Glutamate from China and Indonesia, USITC Investigation Nos. 731-TA-1229-1230 (Final) Publication 4499 (November 2014) (ITC Determinations).

³ Id.

Scope of the Orders

The products covered by these orders are monosodium glutamate (MSG), whether or not blended or in solution with other products. Specifically, MSG that has been blended or is in solution with other product(s) is included in these orders when the resulting mix contains 15 percent or more of MSG by dry weight. Products with which MSG may be blended include, but are not limited to, salts, sugars, starches, maltodextrins, and various seasonings. Further, MSG is included in these orders regardless of physical form (including, but not limited to, in monohydrate or anhydrous form, or as substrates, solutions, dry powders of any particle size, or unfinished forms such as MSG slurry), end-use application, or packaging.

MSG in monohydrate form has a molecular formula of C5H8NO4Na-H2O, a Chemical Abstract Service (CAS) registry number of 6106-04-3, and a Unique Ingredient Identifier (UNII) number of W81N5U6R6U. MSG in anhydrous form has a molecular formula of C5H8NO4Na, a CAS registry number of 142-47-2, and a UNII number of C3C196L9FG.

Merchandise covered by these orders is currently classified in the Harmonized Tariff Schedule (HTS) of the United States at subheading 2922.42.10.00. Merchandise covered by these orders may also enter under HTS subheadings 2922.42.50.00, 2103.90.72.00, 2103.90.74.00, 2103.90.78.00, 2103.90.80.00, and 2103.90.90.91. These tariff classifications, CAS registry numbers, and UNII numbers are provided for convenience and customs purposes; however, the written description of the scope is dispositive.

Amendment to the Final Determination of Sales at Less Than Fair Value of MSG From the PRC

On September 29, 2014, the Department published its affirmative final determination in the proceeding covering MSG from the PRC.⁴ In accordance with 19 CFR 351.224(b), on September 24, 2014, the Department disclosed to interested parties the details of its calculations for the final determination. On September 29, 2014, Ajinomoto North America Inc. (Petitioner), petitioner in the investigation, and Langfang Meihua Bio-Technology Co., Ltd., Tongliao Meihua Biological SCI-TECH Co., Ltd., Meihua Group International Trading (Hong Kong) Limited, Meihua Holdings Group Co., Ltd., and Meihua Holdings Group Co., Ltd., Bazhou Branch (collectively, the Meihua Group), a respondent in the PRC investigation, timely submitted ministerial error allegations and requested, pursuant to 19 CFR 351.224, that the Department correct these alleged ministerial errors. On October 6, 2014, the Meihua Group submitted rebuttal comments to Petitioner's ministerial error allegations.

⁴ See PRC Final Determination.

After analyzing all comments and rebuttal comments that were submitted by interested parties, we determined that, in accordance with section 735(e) of the Act and 19 CFR 351.224(e), certain ministerial errors were made with respect to the Meihua Group's margin calculation and the PRC-wide entity rate.⁵ Specifically, the Department inadvertently failed to: (1) Select the appropriate highest transaction-specific margin for the PRC-wide entity rate, and (2) adjust certain costs of the Meihua Group's ancillary operations regarding its MSG production. The amended dumping margins are provided, below.

⁵ For a detailed discussion of the alleged ministerial errors, as well as the Department's analysis, see Memorandum to Paul Piquado, Assistant Secretary for Enforcement and Compliance, from Christian Marsh, Deputy Assistant Secretary for Antidumping and Countervailing Duty Operations, regarding, “Final Determination of Antidumping Duty Investigation of Monosodium Glutamate from the People's Republic of China: Allegation of Ministerial Errors,” dated November 20, 2014.

Antidumping Duty Orders

As stated above, on November 10, 2014, in accordance with section 735(d) of the Act, the ITC notified the Department of its final determinations in these investigations, in which it found that an industry in the United States is materially injured by reason of imports of MSG from the PRC and Indonesia.⁶ Because the ITC determined that imports of MSG from the PRC and Indonesia are materially injuring a U.S. industry, unliquidated entries of such merchandise from the PRC and Indonesia, entered or withdrawn from warehouse, for consumption are subject to the assessment of antidumping duties.

⁶ See ITC Determinations.

Therefore, in accordance with section 736(a)(1) of the Act, the Department will direct U.S. Customs and Border Protection (CBP) to assess, upon further instruction by the Department, antidumping duties equal to the amount by which the normal value of the merchandise exceeds the export price (or constructed export price) of the merchandise, for all relevant entries of MSG from the PRC and Indonesia. These antidumping duties will be assessed on unliquidated entries of MSG from the PRC and Indonesia entered, or withdrawn from warehouse, for consumption on or after May 8, 2014, the date of publication of the preliminary determination,⁷ but will not include entries occurring after the expiration of the provisional measures period and before publication of the ITC's final injury determinations as further described below.

⁷ See Monosodium Glutamate From the People's Republic of China: Preliminary Determination of Sales at Less Than Fair Value, Preliminary Affirmative Determination of Critical Circumstances, and Postponement of Final Determination, 79 FR 26408 (May 8, 2014) (PRC Preliminary Determination), and Monosodium Glutamate From the Republic of Indonesia: Affirmative Preliminary Determination of Sales at Less Than Fair Value and Postponement of Final Determination, 79 FR 26406 (May 8, 2014).

Continuation of Suspension of Liquidation

In accordance with section 735(c)(1)(B) of the Act, we will instruct CBP to continue to suspend liquidation on all entries of MSG from the PRC and Indonesia. We will also instruct CBP to require cash deposits equal to the amounts indicated below. These instructions suspending liquidation will remain in effect until further notice.

We will also instruct CBP to require cash deposits at rates equal to the estimated weighted-average dumping margins indicated below. Accordingly, effective on the date of publication of the ITC's final affirmative injury determinations, CBP will require, at the same time as importers would normally deposit estimated duties on this subject merchandise, a cash deposit at rates equal to the estimated weighted-average antidumping duty margins listed below.⁸ The relevant all-others rate for Indonesia or the rate for the PRC-wide entity, as applicable, apply to all exporter and producer combinations not specifically listed.

⁸ See section 736(a)(3) of the Act.

Provisional Measures

Section 773(d) of the Act states that instructions issued pursuant to an affirmative preliminary determination may not remain in effect for more than four months except where exporters representing a significant proportion of exports of the subject merchandise request the Department to extend that four-month period to no more than six months. At the request of exporters that account for a significant proportion of MSG from the PRC and Indonesia, we extended the four-month period to no more than six months in each case.⁹ In the underlying investigations, the Department published the preliminary determinations on May 8, 2014. Therefore, the six-month period beginning on the date of publication of the preliminary determinations ended on November 4, 2014 (i.e., the last day of that six-month period was November 3, 2014). Furthermore, section 737(b) of the Act states that definitive duties are to begin on the date of publication of the ITC's final injury determination.

⁹ See the April 23, 2014, Letter to the Secretary from the Meihua Group, “Monosodium Glutamate from the People's Republic of China: Request for Extension of the Final Determination,” and the April 28, 2014, Letter to the Secretary from PT. Cheil Jedang Indonesia and CJ America, Inc., “Antidumping Duty Investigation of Monosodium Glutamate from Indonesia: Conditional Request to Postpone the Final Determination.”

As a result, in accordance with section 733(d) of the Act and our practice, we will instruct CBP to terminate the suspension of liquidation and to liquidate, without regard to antidumping duties, unliquidated entries of MSG from the PRC and Indonesia, entered, or withdrawn from warehouse, for consumption on or after November 4, 2014, the date the provisional measures expired, until and through the day proceeding the date of publication of the ITC's final injury determinations in the Federal Register. Suspension of liquidation resumes on the date of publication of the ITC's final determination in the Federal Register. The weighted-average dumping margins are as follows:

The PRC
Exporter | Producer | Weighted-average dumping margin (percent)
Langfang Meihua Bio-Technology Co., Ltd./Meihua Group International Trading (Hong Kong) Limited | Tongliao Meihua Biological SCI-TECH Co., Ltd./Meihua Holdings Group Co., Ltd., Bazhou Branch | 20.09
Fujian Province Jianyang Wuyi MSG Co., Ltd | Fujian Province Jianyang Wuyi MSG Co., Ltd | 20.09
Neimenggu Fufeng Biotechnologies Co., Ltd | Neimenggu Fufeng Biotechnologies Co., Ltd | 20.09
Baoji Fufeng Biotechnologies Co., Ltd | Baoji Fufeng Biotechnologies Co., Ltd | 20.09
PRC-wide Entity |  | 39.03

The PRC-wide entity includes Shandong Linghua Monosodium Glutamate Incorporated Company (Shandong Linghua), a mandatory respondent in this investigation.

Indonesia
Exporter or producer | Weighted-average dumping margin (percent)
PT Cheil Jedang Indonesia | 6.19
All Others | 6.19

Critical Circumstances

With regard to the ITC's negative critical circumstances determinations on imports of MSG from the PRC, we will instruct CBP to lift suspension and to refund any cash deposits made to secure the payment of estimated antidumping duties with respect to entries of the subject merchandise entered, or withdrawn from warehouse, for consumption on or after February 7, 2014 (i.e., 90 days prior to the date of publication of the PRC Preliminary Determination), but before May 8, 2014, (i.e., the date of publication of the PRC Preliminary Determination).

Notifications to Interested Parties

This notice constitutes the AD orders with respect to MSG from the PRC and Indonesia pursuant to section 736(a) of the Act. Interested parties can find a list of AD orders currently in effect at http://enforcement.trade.gov/stats/iastats1.html.

These orders and the amended final determination for PRC are published in accordance with sections 735(e), 736(a), and 777(i) of the Act, and 19 CFR 351.211 and 351.224(e).

Dated: November 20, 2014.
Paul Piquado,
Assistant Secretary for Enforcement and Compliance.

[FR Doc. 2014-28053 Filed 11-25-14; 8:45 am]

BILLING CODE 3510-DS-P